DEPARTMENT OF JUSTICE

[AAG/A Order No. 289-2002]

Privacy Act of 1974; System of Records

Pursuant to the provisions of the Privacy Act of 1974 (5 U.S.C. 552a), the Immigration and Naturalization Service (INS), Department of Justice, proposes to modify the following system of records—previously published November 4, 1997 (62 FR 58734):

Computer Linked Application Information Management System (CLAIMS 3 and 4) Justice/INS-013

INS proposes to modify the following sections of the notice: System Location—by providing the web address for locating INS field office addresses; Categories of Individuals—to adequately describe the individuals at issue within the system; Categories of Records in the System—describing three other database systems that are either components or extractions of CLAIMS; Purpose—adding an additional purpose for maintaining this system of records; Retrievability—adding another means for retrieval of the data; Retention and Disposal—updating the schedule to include its current description; System Manager—an internal reorganization switched authority for the system to a new program office; and Records Access Procedures—the text has been updated. Also, three routine uses (B), (F), and (G) are being edited and three routine uses (H), (I), and (J) have been added. Finally, other minor corrections and edits have also been made.

In accordance with 5 U.S.C. 552a (e)(4) and (11), the public is given a 30-day period in which to comment on the proposed routine uses. The Office of Management and Budget (OMB), which has oversight responsibility under the Act, requires a 40-day period in which to conclude its review of the system. Therefore, please submit any comment by November 18, 2002. The public, OMB, and the Congress are invited to submit any comments to Mary Cahill, Management Analyst, Management and Planning Staff, Justice Management Division of Justice, Washington, DC 20530 (Room 1400, National Place Building).

In accordance with 5 U.S.C. 552a the Department has provided a report to OMB and the Congress.

Dated: October 4, 2002.
Robert F. Diegelman,
Acting Assistant Attorney General for Administration.

JUSTICE/INS-013

SYSTEM NAME:

Computer Linked Application Information Management System (CLAIMS 3 and 4).

SYSTEM LOCATION:

The Department of Justice (DOJ) Data Processing Center with data access by Immigration and Naturalization Service (INS) users from Headquarters, Regional and District offices, Service Centers, and sub-offices as detailed in JUSTICE/INS-999, last published in the Federal Register on April 13, 1999 (64 FR 18052), and on the Internet at the INS Web page, at http://www.INS.gov.

CATEGORIES OF INDIVIDUALS COVERED BY THE SYSTEM:

Individuals who have filed applications or petitions for benefits under the Immigration and Nationality Act, as amended, and/or who have submitted fee payments with such applications or petitions; and individuals who have paid fees for access to records under the Freedom of Information/Privacy Acts (FOIA/PA).

CATEGORIES OF RECORDS IN THE SYSTEM:

Biographic information which identifies individuals named above, e.g., name and address, date of birth, country of birth and alien registration number. Records in the system may also include such information as date documents were filed or received in INS, application/petition status, location of record, FOIA/PA or other control number when applicable, and fee receipt data.

AUTHORITY FOR MAINTENANCE OF THE SYSTEM:

8 U.S.C. 1103; 8 U.S.C. 1363; and 31 U.S.C. 3512.

PURPOSE(S):

CLAIMS 3 and 4 consists of three major components: 1) The Local Area Network (LAN) version is used mainly by the INS Service Centers to support the processing and maintenance of applications and petitions information into computer data format; 2) The centralized mainframe component, retains data uploaded from the Service Center LAN operations and provides real-time on-line nationwide inquiries and update capabilities to authorized INS representatives, and; 3) The re-engineered Client/Server version of CLAIMS automates aspects of applications associated with naturalization/citizenship and benefits processing. Both investigative and administrative records are maintained in this system in order to permit the INS to function efficiently. Reports are also generated from the data within the system.

The CLAIMS 3 and 4 components enable INS to provide automated support to process applications and/or petitions for benefits; determine the status of pending applications and petitions for benefits; account for and control the receipt and disposition of any fees and refunds collected, and FOIA/PA requests; and locate related physical and automated files to support INS responses to inquiries about these records.

ROUTINE USES OF RECORDS MAINTAINED IN THE SYSTEM, INCLUDING CATEGORIES OF USERS AND THE PURPOSES OF SUCH USES:

A. To any Federal agency, where appropriate, to enable such agency to make determinations regarding the payment of Federal benefits to the record subject in accordance with that agency's statutory responsibilities.

B. In an appropriate proceeding before a court, grand jury, or administrative or regulatory body when records are determined by the Department of Justice to be arguably relevant to the proceeding.

C. To an actual or potential party or to his or her attorney for the purpose of negotiation or discussion on such matters as settlement of the case or matter, or informal discovery proceedings.

D. To the news media and the public pursuant to 28 CFR 50.2 unless it is determined that release of the specific information in the context of a particular case would constitute an unwarranted invasion of personal privacy.

E. To a Member of Congress, or staff acting upon the Member's behalf, when the Member or staff requests the information on behalf of and at the request of the individual who is the subject of the record.

F. To General Services Administration and National Archives and Records Administration in records management inspections conducted under the authority of 44 U.S.C. 2904 and 2906.

G. To an obligor who has posted a bond with the INS for the subject. INS may provide only such information, as either (1) may aid the obligor in locating the subject to insure his or her presence when required by INS or (2) assist the obligor in evaluating the propriety of the following actions by INS: breach of bond—i.e., notice to the obligor that the subject of the bond has failed to appear which would render the full amount of the bond due and payable.

H. To the appropriate agency/organization/task force, regardless of whether it is Federal, State, local, foreign, or tribal, charged with the enforcement (e.g., investigation and prosecution) of a law (criminal or civil), regulation, or treaty, of any record contained in this system of records which indicates either on its face, or in conjunction with other information, a violation or potential violation of that law, regulation, or treaty.

I. To contractors, grantees, experts, consultants, students, and others performing or working on a contract, service, grant, cooperative agreement, or other assignment for the Federal Government, when necessary to accomplish an agency function related to this system of records.

J. Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

POLICIES AND PRACTICES FOR STORING, RETRIEVING, ACCESSING, RETAINING, AND DISPOSING OF RECORDS IN THE SYSTEM:

STORAGE:

Information is stored on magnetic disks and tape.

RETRIEVABILITY:

Records may be retrieved by: the Alien File Number (A-Number) in some instances; the name of the individuals covered by the system; and by application/petition receipt number.

SAFEGUARDS:

Most INS offices are located in buildings under security guard, and access to premises is by official identification. Offices are locked during non-duty hours. Access to this system is obtained through remote terminals that require the use of restricted passwords and a user ID.

RETENTION AND DISPOSAL:

The following INS proposal for retention and disposal is pending approval by NARA. Information located on the LAN database will be archived in accordance with the archiving criteria for each different INS form downloaded into the system, i.e., one to three years after date of last completed action to a repository where it will remain 15 years before destruction. Archived reports are maintained at INS Service Centers for 15 years and then are destroyed. The re-engineered client/server data will be deleted 15 years after INS has completed the final action on the benefit request.

SYSTEM MANAGER(S) AND ADDRESS:

Deputy Executive Associate Commissioner, Office of Field Operations, Immigration Services Division, 435 I Street NW, Room 7246, Washington, DC 20536.

NOTIFICATION PROCEDURES:

Inquiries should be addressed to the system manager.

RECORDS ACCESS PROCEDURE:

Requests for access to records in this system must be in writing. Such requests may be submitted by mail or in person. If a request for access is made by mail, the envelope and letter shall be clearly marked Privacy Access Request. The requester should provide his or her full name, date and place of birth, verification of identity in accordance with 8 CFR 103.21(b), and any other identifying information that may be of assistance in locating the record. Requests to contest or amend information contained in the system should be made to the system manager or the FOIA/PA officer at any INS office. The requester should also provide a return address for transmitting the records to be released.

CONTESTING RECORDS PROCEDURE:

Requests to contest or amend information contained in the system should be made to the System Manager or the FOIA/PA officer at any INS office. State clearly and concisely the information being contested, the reason for contesting it, and the proposed amendment thereof. Clearly mark the envelope, “Privacy Act Amendment Request.” The record must be identified in the same manner as described for making a request for access.

RECORD SOURCE CATEGORIES:

Information contained in this system of records is obtained from the individuals covered by the system.

SYSTEM EXEMPTED FROM CERTAIN PROVISIONS OF THE ACT:

None.

[FR Doc. 02-26260 Filed 10-16-02; 8:45 am]

BILLING CODE 4410-10-P